DEPARTMENT OF COMMERCE

International Trade Administration

[A-570-863]

Notice of Extension of Preliminary Results of New Shipper Antidumping Duty Reviews: Honey from the People's Republic of China

AGENCY: Import Administration, International Trade Administration, Department of Commerce.

SUMMARY: The Department of Commerce (the Department) is conducting new shipper antidumping duty reviews of honey from the People's Republic of China (PRC) in response to requests by respondents Anhui Honghui Foodstuff (Group) Co., Ltd. (Anhui Honghui), Eurasia Bee's Products Co., Ltd. (Eurasia), Inner Mongolia Youth Trade Development Co., Ltd. (Inner Mongolia Youth), and Jiangsu Kanghong Natural Healthfoods Co., Ltd. (Jiangsu Kanghong). These reviews cover shipments to the United States for the period December 1, 2002, to November 30, 2003, by these four respondents. For the reasons discussed below, we are extending the preliminary results of these new shipper reviews by an additional 53 days, to no later than November 19, 2004.

EFFECTIVE DATE: October 1, 2004.

FOR FURTHER INFORMATION CONTACT: Anya Naschak at (202) 482-6375 or Kristina Boughton at (202) 482-8173; AC/CVD Enforcement Office 9, NME/China Unit, Import Administration, International Trade Administration, U.S. Department of Commerce, 14th Street and Constitution Avenue, NW, Washington, DC 20230.

Background

The Department received timely requests from Anhui Honghui, Eurasia, Foodworld International Club Limited (Foodworld), Inner Mongolia Youth, Jiangsu Kanghong, and Shanghai Shinomiel International Trade Corporation (Shanghai Shinomiel), in accordance with 19 CFR 351.214(c), for new shipper reviews of the antidumping duty order on honey from the PRC, which has a December annual anniversary month and a June semiannual anniversary month. See Notice of Amended Final Determination of Sales at Less Than Fair Value and Antidumping Duty Order; Honey from the People's Republic of China, 66 FR 63670 (December 10, 2001). On January 30, 2004, the Department found that the requests for review with respect to Anhui Honghui, Eurasia, Inner Mongolia Youth, and Jiangsu Kanghong met all the regulatory requirements set forth in 19 CFR 351.214(b) and initiated these new shipper antidumping duty reviews covering the period December 1, 2002, through November 30, 2003. The Department did not initiate new shipper reviews for the remaining two companies (i.e., Foodworld and Shanghai Shinomiel). See Honey From the People's Republic of China: Initiation of New Shipper Antidumping Duty Reviews, 69 FR 5835 (February 6, 2004). In June and July 2004, the Department conducted verifications of the four companies under review in these proceedings. On June 1, 2004, the Department published an extension notice for the preliminary results of these new shipper antidumping duty reviews. See Honey From the People's Republic of China: Notice of Extension of Preliminary Results of New Shipper Antidumping Duty Reviews, 69 FR 30881. The preliminary results are currently due no later than September 27, 2004.

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214 (i)(2)). The Department has determined that this case is extraordinarily complicated, and the preliminary results of this new shipper review cannot be completed within the statutory time limit of 180 days. The Department needs additional time because of the continuing complexity of some of the issues. In particular, the Department needs additional time to research and analyze the appropriate surrogate value for raw honey. Given the issues in this case, the Department finds that this case is extraordinarily complicated, and cannot be completed within the statutory time limit.

Accordingly, the Department is extending the time limit for the completion of the preliminary results by an additional 53 days, to November 19, 2004, in accordance with section 751(a)(2)(B)(iv) of the Act and 19 CFR 351.214(i)(2). The final results will, in turn, be due 90 days after the date of issuance of the preliminary results, unless extended.

Dated: September 24, 2004.
Jeffrey A. May,
Deputy Assistant Secretary for Import Administration.

[FR Doc. E4-2458 Filed 9-30-04; 8:45 am]

BILLING CODE 3510-DS-S